DEPARTMENT OF ENERGY

Federal Energy Regulatory Commission

[ Docket No. CP07-28-000]

Southern Natural Gas Company; Notice of Intent To Prepare an Environmental Assessment for the Proposed 2007 Alabama Abandonment & Replacement Project and Request for Comments on Environmental Issues

January 17, 2007.

The staff of the Federal Energy Regulatory Commission (FERC or Commission) will prepare an environmental assessment (EA) that will discuss the environmental impacts of the 2007 Alabama Abandonment & Replacement Project. This proposal involves abandonment, construction, and operation of facilities along approximately 10 miles of Southern Natural Gas Company's (Southern) existing natural gas pipeline system in Tuscaloosa County, Alabama.

This notice announces the opening of the scoping period that will be used to gather environmental input from the public and interested agencies on the project. Your input will help us (the commission staff) determine which issues need to be evaluated in the EA. Please note that the scoping period will close on February 16, 2007.

This notice is being sent to potentially affected landowners; Federal, State, and local government agencies; elected officials; environmental and public interest groups; Native American Tribes; other interested parties; and local libraries and newspapers. State and local government representatives are asked to notify their constituents of this proposed project and encourage them to comment on their areas of concern.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” is available for viewing on the FERC Web site (http://www.ferc.gov). This fact sheet addresses a number of typically-asked questions, including the use of eminent domain and how to participate in the Commission's proceedings.

Summary of the Proposed Project

Southern currently is involved in an extensive pipeline integrity program (PIP). As part of the PIP, Southern would replace certain sections of pipe which were constructed using a mechanical coupling methodology. One of these areas is the North Main Loop Line from Milepost (MP) 271.65 to MP 281.23 (9.62 miles) in Tuscaloosa County, Alabama.¹ Specifically, Southern proposes to:

¹ A loop is a segment of pipeline installed adjacent to an existing pipeline and which connects to the existing pipeline at both ends of the loop. The loop allows more gas to be moved through the system.

• Abandon in place 2.79 miles of its 22-inch-diameter North Main Loop Line between MPs 278.48 and 281.23;

• Abandon by removal 6.83 miles of its 22-inch-diameter North Main Loop Line between MPs 271.65 and 278.48;

• Construct a 6.83 mile extension of its 24-inch-diameter 2nd North Main Loop Line between MPs 148.93 and 155.75 (i.e., between MPs 271.65 and 278.48 on Southern's 22-inch-diameter North Main Loop Line) within the trench of the removed pipeline; and

• Modify certain facilities along its North Main Loop Line (e.g., installation of mainline gate valves and crossover connections, and disconnecting meter station and field tie-in taps) between MPs 274.92 and 281.23.

The general location of Southern's proposed activities is shown on the map attached as Appendix 1.²

² The appendices referenced in this notice are not being printed in the Federal Register. Copies of all appendices, other than appendix 1 (maps), are available on the Commission's website at the “eLibrary” link or from the Commission's Public Reference Room, 888 First Street, NE., Washington, DC 20426, or call (202) 502-8371. For instructions on connecting to eLibrary refer to the last page of this notice. Copies of the appendices were sent to all those receiving this notice in the mail.

Land Requirements for Construction

Southern's proposed action would require about 103.26 acres of land for the construction right-of-way for the pipeline, temporary workspaces, staging areas, and wareyards. The construction right-of-way for the project would be within the existing 60- to 150-foot wide right-of-way. New permanent easement would include approximately 0.91 acres.

Following construction, the permanent right-of-way would be maintained in its current condition; temporary work spaces would be restored and allowed to revert to their former use.

Construction access to Southern's project would be via existing access roads. Southern has identified 20 existing private access roads necessary for the construction of its project. Some of the access roads may need to be widened or upgraded for construction use.

The EA Process

We are preparing the EA to comply with the National Environmental Policy Act (NEPA) which requires the Commission to take into account the environmental impacts that could result from an action whenever it considers the issuance of a Certificate of Public Convenience and Necessity. NEPA also requires us to discover and address concerns the public may have about proposals. This process is referred to as “scoping”. The main goal of the scoping process is to focus the analysis in the EA on the important environmental issues. By this Notice of Intent, the Commission staff requests public comments on the scope of the issues to address in the EA. All comments received are considered during the preparation of the EA.

By this notice, we are also asking federal, state, and local agencies with jurisdiction and/or special expertise with respect to environmental issues to formally cooperate with us in the preparation of the EA. Agencies that would like to request cooperating status should follow the instructions for filing comments below.

Our independent analysis of the issues will be in the EA. Depending on the comments received during the scoping process, the EA may be published and mailed to Federal, State, and local agencies, public interest groups, interested individuals, affected landowners, newspapers and libraries in the project area, and the Commission's official service list for this proceeding. A comment period will be allotted for review if the EA is published. We will consider all comments on the EA before we make our recommendations to the Commission.

Public Participation

You can make a difference by providing us with your specific comments or concerns about the project. By becoming a commentor, your concerns will be addressed in the EA and considered by the Commission. You should focus on the potential environmental effects of the proposal, alternatives to the proposal (including alternative locations and routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 1.

• Reference Docket No. CP07-28-000.

• Mail your comments so that they will be received in Washington, DC on or before February 16, 2007.

Please note that the Commission strongly encourages electronic filing of any comments or interventions or protests to this proceeding. See 18 CFR 385.2001(a)(1)(iii) and the instructions on the Commission's Web site at http://www.ferc.gov under the “e-Filing” link and the link to the User's Guide. Before you can file comments you will need to create an account which can be created on-line.

Becoming an Intervenor

In addition to involvement in the EA scoping process, you may want to become an official party to the proceeding known as an “intervenor”. Intervenors play a more formal role in the process. Among other things, intervenors have the right to receive copies of case-related Commission documents and filings by other intervenors. Likewise, each intervenor must send one electronic copy (using the Commission's e-Filing system) or 14 paper copies of its filings to the Secretary of the Commission and must send a copy of its filings to all other parties on the Commission's service list for this proceeding. If you want to become an intervenor, you must file a motion to intervene according to Rule 214 of the Commission's Rules of Practice and Procedure (18 CFR 385.214).³ Only intervenors have the right to seek rehearing of the Commission's decision.

³ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Magalie R. Salas,
Secretary.

[FR Doc. E7-1133 Filed 1-25-07; 8:45 am]

BILLING CODE 6717-01-P